DEPARTMENT OF TRANSPORTATION

Office of the Secretary

Aviation Proceedings, Agreements Filed the Week Ending October 24, 2009

The following Agreements were filed with the Department of Transportation under the Sections 412 and 414 of the Federal Aviation Act, as amended (49 U.S.C. 1383 and 1384) and procedures governing proceedings to enforce these provisions. Answers may be filed within 21 days after the filing of the application.

Docket Number: DOT-OST-2009-0262.

Date Filed: October 20, 2009.

Parties: Members of the International Air Transport Association.

Subject: TC123 North Atlantic (except between USA and Korea, Rep. of, Malaysia) Resolutions and Specified Fares Tables (Memo 0455). Intended effective date: 1 April 2010.

Docket Number: DOT-OST-2009-0263.

Date Filed: October 21, 2009.

Parties: Members of the International Air Transport Association.

Subject: TC123 Mid Atlantic, Resolutions and Specified Fares Tables (Memo 0456). Intended effective date: 1 April 2010.

Docket Number: DOT-OST-2009-0264.

Date Filed: October 21, 2009.

Parties: Members of the International Air Transport Association.

Subject: TC123 South Atlantic, Resolutions and Specified Fares Tables (Memo 0457).

Intended effective date: 1 April 2010.

Docket Number: DOT-OST-2009-0265.

Date Filed: October 21, 2009.

Parties: Members of the International Air Transport Association.

Subject: TC123 North Atlantic, between USA and Korea, Rep. of Malaysia, Resolutions and Specified Fares Tables (Memo 0458). Intended effective date: 1 April 2010.

Docket Number: DOT-OST-2009-0269.

Date Filed: October 21, 2009.

Parties: Members of the International Air Transport Association.

Subject: CSC/31/Meet/005/09 dated 8 April 2009. CSC/Mail Vote/002/2009 dated 29 September 2009. Finally Adopted Resolutions: 600a, 600f, 600g, 600h, 600i, and Recommended Practice 1670. Intended effective date: 23 December 2009.

Renee V. Wright,
Program Manager, Docket Operations, Federal Register Liaison.

[FR Doc. E9-26905 Filed 11-6-09; 8:45 am]

BILLING CODE 4910-9X-P